FEDERAL COMMUNICATIONS COMMISSION

47 CFR Part 73

[DA 04-1542; MB Docket No. 03-208, RM-10793]

Radio Broadcasting Services; Arthur and Hazelton, ND

AGENCY: Federal Communications Commission.

ACTION: Final rule.

SUMMARY: The Audio Division, at the request of Vision Media Incorporated, substitutes Channel 280C1 for Channel 280C3 at Arthur, North Dakota, and the modifies Station DVMI(FM)'s license accordingly. To accommodate the upgrade, we also substitute Channel 277C for vacant Channel 280C at Hazelton, North Dakota. See 68 FR 60074, October 21, 2003. Channel 280C1 can be substituted at Arthur in compliance with the Commission's minimum distance separation requirements with a site restriction of 48.5 kilometers (30.1 miles) northwest at petitioner's requested site. The coordinates for Channel 280C1 at Arthur are 47-19-35 North Latitude and 97-26-15 West Longitude. Additionally, Channel 277C can be substituted at Hazelton with a site restriction of 51.6 kilometers (32.0 miles) west at the authorized allotment site. The coordinates for Channel 277C at Hazelton are 46-22-06 North Latitude and 100-55-49 West Longitude.

DATES: Effective August 2, 2004. A filing window for Channel 277C at Hazelton, North Dakota, will not be opened at this time. Instead, Channel 277C will be substituted for Channel 280C (FM197) at Hazelton on Auction No. 37, rescheduled for November 3, 2004.

ADDRESSES: Federal Communications Commission, Washington, DC 20554.

FOR FURTHER INFORMATION CONTACT: Sharon P. McDonald, Media Bureau, (202) 418-2180.

SUPPLEMENTARY INFORMATION: This is a synopsis of the Commission's Report and Order, MB Docket No. 03-208, adopted May 26, 2004, and released May 28, 2004. The full text of this Commission decision is available for inspection and copying during normal business hours in the FCC Reference Information Center (Room CY-A257), 445 12th Street, SW., Washington, DC. The complete text of this decision may also be purchased from the Commission's copy contractor, Qualex International, Portals II, 445 12th Street, SW., Room CY-B402, Washington, DC 20054.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts. The Audio Division granted Station KVMI a license to specify operation on Channel 280C3 in lieu of Channel 280A at Arthur, North Dakota on May 21, 2003. See BLH-20030303ACH. The FM Table of Allotment does not reflect this change.

For information regarding proper filing procedures for comments, see 47 CFR 1.415 and 1.420.

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334, 336.

§ 73.202 [Amended]

2. Section 73.202(b), the Table of FM Allotments under North Dakota, is amended by removing Channel 280A and adding Channel 280C1 at Arthur; and by removing Channel 280C and adding Channel 277C at Hazelton.

Federal Communications Commission.
John A. Karousos,
Assistant Chief, Audio Division, Media Bureau.

[FR Doc. 04-13993 Filed 6-21-04; 8:45 am]

BILLING CODE 6712-01-P